DEPARTMENT OF TRANSPORTATION

Federal Aviation Administration

[Docket No. 2022-0612]

Agency Information Collection Activities: Requests for Comments; Clearance of a Renewed Approval of Information Collection: Bipartisan Infrastructure Law Airport Terminal and Tower Project Information

AGENCY: Federal Aviation Administration (FAA), Transportation Department (DOT).

ACTION: Notice and request for comments.

SUMMARY: In accordance with the Paperwork Reduction Act of 1995, FAA invites public comments about our intention to request the Office of Management and Budget (OMB) approval to renew an information collection. The Federal Register Notice with a 60-day comment period soliciting comments on the following collection of information was published on May 6, 2022. The collection involves soliciting project information for the Bipartisan Infrastructure Law (BIL) Airport Terminal and Tower Programs. The information to be collected will be used to determine projects to be awarded BIL competitive discretionary grants.

DATES: Written comments should be submitted by September 1, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Robin K. Hunt, Manager, BIL Implementation Team, by email at: 9-ARP-BILAirports@faa.gov; phone: (202) 267-3831.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0806.

Title: Bipartisan Infrastructure Law Airport Terminal and Tower Project Information.

Form Numbers: 5100-144.

Type of Review: Renewal of an information collection.

Background: The Federal Register Notice with a 60-day comment period soliciting comments on the following collection of information was published on May 6, 2022 (87 FR 27200). The FAA will use this collection to solicit the information necessary to evaluate and select airport terminal and tower projects for funding under the Bipartisan Infrastructure Law (BIL), signed on November 15, 2021. The BIL provides about $1,020,000,000 annually, for five years, to award competitive discretionary grants for airport terminal and tower development. Of this amount, about $1,000,000,000 annually, for five years, is for the Airport Terminal Program, and $20,000,000 annually, for five years, is for an Airport-owned Contract Tower Program (referred to collectively as “Airport Terminal and Towers Programs”). The information collected is based on grant considerations and priorities outlined in the BIL. Project consideration areas include increasing terminal capacity and passenger access; replacing aging infrastructure; achieving compliance with the Americans with Disabilities Act (42 U.S.C. 12101, et seq.) and expanding accessibility for persons with disabilities; improving airport access for historically disadvantaged populations; improving energy efficiency, including upgrading environmental systems, upgrading plant facilities, and achieving Leadership in Energy and Environmental Design (LEED) accreditation standards; improving airfield safety through terminal relocation; encouraging actual and potential competition; and creating good paying jobs. The information FAA is collecting will include general airport information, a project overview, and narratives on project consideration areas as outlined in the BIL. Airport owners and managers who want to pursue funding and obtain benefits from the BIL Airport Terminal and Tower Programs will submit information via FAA Form 5100-144 to compete for grants. Approximately 3,075 airports are eligible to participate in the BIL Airport Terminal Program and about 170 for Tower programs, but FAA expects only a small subset of eligible airports to submit project information through this competitive discretionary grant process.

Respondents: Approximately 755 submissions.

Frequency: Annually.

Estimated Average Burden per Response: 6 Hours.

Estimated Total Annual Burden: 4,530 hours for all submissions.

Issued in Washington, DC.
Robin K. Hunt,
Manager, BIL Implementation Team, Office of Airports.

[FR Doc. 2022-16462 Filed 8-1-22; 8:45 am]

BILLING CODE 4910-13-P